DEPARTMENT OF THE INTERIOR

Bureau of Land Management

[LLNVS00000.L12100000.DC0000 LXSS100F0000 241A; 14-08807; MO# 4500065255]

Notice of Availability Las Vegas and Pahrump Field Offices Draft Resource Management Plan and Draft Environmental Impact Statement, Nevada

AGENCY: Bureau of Land Management, Interior.

ACTION: Notice.

SUMMARY: In accordance with the National Environmental Policy Act of 1969, as amended, and the Federal Land Policy and Management Act of 1976, as amended, the Bureau of Land Management (BLM) has prepared the Las Vegas and Pahrump Field Offices Draft Resource Management Plan (RMP)/Draft Environmental Impact Statement (EIS), for the Southern Nevada District Office, Las Vegas and Pahrump Field Offices, and by this notice is announcing the opening of the comment period on the Draft RMP/Draft EIS.

DATES: To ensure that comments will be considered, the BLM must receive written comments on the Draft RMP/Draft EIS within 90 days following the date the Environmental Protection Agency publishes its notice of the Draft RMP/Draft EIS in the Federal Register. The BLM will announce any subsequent meetings or hearings and any other public participation activities related to the Draft RMP/Draft EIS at least 15 days in advance through public notices, media releases, and/or mailings.

ADDRESSES: You may submit comments related to the Las Vegas and Pahrump Field Offices Draft RMP/Draft EIS by any of the following methods:

• Web site: https://www.blm.gov/epl-front-office/eplanning/planAndProjectSite.do?methodName=renderDefaultPlanOrProjectSite&projectId=2900&dctmId=0b0003e88009debe

• Email: sndo_rmp_revision@blm.gov

• Fax: 702-515-5023

• Mail: BLM Southern Nevada District Office, Las Vegas/Pahrump Field Offices Draft RMP/Draft EIS, 4701 N. Torrey Pines Drive, Las Vegas, NV 89130.

Copies of the Las Vegas and Pahrump Field Offices Draft RMP/Draft EIS are available in the Southern Nevada District Office at the above address or on the following Web site https://www.blm.gov/epl-front-office/eplanning/planAndProjectSite.do?methodName=renderDefaultPlanOrProjectSite&projectId=2900&dctmId=0b0003e88009debe

FOR FURTHER INFORMATION CONTACT: Lee Kirk, RMP Team Lead, telephone: 702-515-5026; address: 4701 N. Torrey Pines Drive, Las Vegas, NV 89130; email: sndo_rmp_revision@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Las Vegas and Pahrump Field Offices Draft RMP/Draft EIS would replace the existing 1998 Las Vegas Field Office RMP. The Draft RMP/Draft EIS was developed through a collaborative planning process. The Las Vegas and Pahrump Field Offices Draft RMP/Draft EIS decision area encompasses approximately 3.1 million acres of public land administered by the BLM Southern Nevada District in Clark and Southern Nye counties, Nevada. It does not include private lands, State lands, Indian reservations, Federal lands not administered by BLM or lands addressed in the Red Rock Canyon National Conservation Area RMP (2005) and Sloan Canyon National Conservation Area RMP (2006).

The Las Vegas and Pahrump Field Offices Draft RMP/Draft EIS includes goals, objectives and management actions for protecting and preserving natural resources which includes air quality, soil and water resources, vegetation, fish and wildlife, special status species, wild horses and burros, wildland fire management, cultural and paleontological resources, visual resource values, and lands with wilderness characteristics. Multiple resource uses are addressed which include management and forage allocations for livestock grazing; delineation of lands open, closed, or subject to special stipulations or mitigation measures for minerals development; recreation and travel management designations; management of lands and realty actions, including delineation of avoidance and exclusion areas applicable to rights-of-ways (ROWs), land tenure adjustments, and solar and wind energy development. The planning effort will consider establishment of a national trail management corridor for the congressionally-designated Old Spanish National Historic Trail. Eligible river segments will be evaluated for suitability as components of the National Wild and Scenic River System and 23 new Areas of Critical Environmental Concern (ACECs) are proposed. The ACECs are proposed to protect natural and cultural resource values and traditional Native American use areas.

The Draft RMP/Draft EIS analyzes four management alternatives. Alternative 1 is the No Action Alternative, which is the continuation of current management in the existing 1998 RMP, as amended. This alternative describes the current goals and actions for management of resources and land uses in the planning area. The management direction could also be modified by current laws, regulations, and policies. Alternative 2 emphasizes the protection of the planning area's resource values while allowing commodity uses consistent with current laws, regulations, and policies. Management actions would emphasize resource values such as habitat for wildlife and plant species (including special status species), protection of riparian areas and water quality, preservation of ecologically important areas, maintenance of wilderness characteristics, and protection of scientifically important cultural and paleontological sites. Access to and development of resources within the planning area could occur with intensive management and mitigation of surface-disturbing and disruptive activities. Alternative 3 emphasizes a balance between resource protection and resource use, which provides opportunities to use and develop resources within the planning area while ensuring resource protection. Alternative 4 emphasizes opportunities to use and develop resources within the planning area. It would provide for motorized access and commodity production with minimal restrictions while providing protection of natural and cultural resources to the extent required by law, regulation, and policy. This alternative would largely rely on existing laws, regulations, and policies, rather than special management or special designations, to protect sensitive resources. The BLM Southern Nevada District's Office preferred alternative is Alternative 3.

Pursuant to 43 CFR 1610.7-2(b), this notice announces a concurrent public comment period for potential ACECs. There are 23 new ACECs proposed in Alternative 2, 20 new ACECs proposed in Alternative 3, and 4 new ACECs in Alternative 4. The ACECs are proposed to protect natural and cultural resource values and traditional Native American use areas. Alternatives 2, 3, and 4 all propose to remove the ACEC designations from the current Arden Historic Sites (1,443 Acres) and Crescent Townsite (436 acres) ACECs. Some of the existing ACECs are also proposed to be expanded or reduced in Alternatives 2, 3, and 4.

The new potential ACECs in Alternative 2 include: Bird Spring Valley (78,958 acres), Bitter Springs (61,733 acres), California Wash (11,998 acres), Gale Hills (3,865 acres), Grapevine Spring (85 acres), Hiko Wash (847 acres), Jean Lake (11,606 acres), Lava Dune (437 acres), Logandale (6,073 acres), Lower Mormon Mesa (46,956 acres), Mesa Milkvetch (9,183 acres), Moapa Mesquite (1,214 acres), Mt. Schrader (283 acres), Muddy Mountains (36,189 acres), Old Spanish Trail (49,828 acres), Pahrump Valley (36,823 acres), Perkins Ranch (408 acres), Sandy Valley (210 acres), Specter Hills (5,420 acres), Spirit Mountain (9,488 acres), Stewart Valley (5,204 acres), Stuart Ranch (278 acres), and Upper Las Vegas Wash (12,294 acres). Alternative 2 would also expand the following existing ACECs: Amargosa Mesquite (9,642 acres), Big Dune (2,455 acres), Keyhole Canyon (639 acres), Mormon Mesa (159,940 acres), Piute/Eldorado (347,630 acres), and Virgin River (8,500 acres). Alternative 2 would reduce the size of the following existing ACECs: Ash Meadows (37,273 acres), Gold Butte Part A (184,627 acres), Gold Butte Part B (116,575 acres), Rainbow Gardens (35,355 acres), and River Mountains (6,697 acres).

The new potential ACECs in Alternative 3 include: Bird Spring Valley (26,997 acres), Bitter Springs (61,733 acres), Gale Hills (3,865 acres), Grapevine Spring (85 acres), Hiko Wash (708 acres), Jean Lake (11,606 acres), Lava Dune (437 acres), Lower Mormon Mesa (42,905 acres), Mesa Milkvetch (3,512 acres), Moapa Mesquite (1,304 acres), Mt. Schrader (283 acres), Muddy Mountains (36,189 acres), Old Spanish Trail (33,831 acres), Pahrump Valley (21,232 acres), Perkins Ranch (408 acres), Specter Hills (5,420 acres), Spirit Mountain (9,488 acres), Stewart Valley (3,248 acres), Stuart Ranch (278 acres), and Upper Las Vegas Wash (12,294 acres). Alternative 3 would also expand the following existing ACECs: Amargosa Mesquite (9,642 acres), Keyhole Canyon (639 acres), Mormon Mesa (167,888 acres), Piute/Eldorado (347,630 acres), and Virgin River (7,493 acres). Alternative 3 would reduce the size of the following existing ACECs: Ash Meadows (37,273 acres), Big Dune (1,589 acres), Gold Butte Part A (183,440 acres), Gold Butte Part B (116,733 acres), Rainbow Gardens (35,355 acres), and River Mountains (6,697 acres).

The new potential ACECs in Alternative 4 include: Grapevine Spring (85 acres), Jean Lake (9,138 acres), Perkins Ranch (408 acres), and Stuart Ranch (278 acres). Alternative 4 would also expand the following existing ACECs: Mormon Mesa (159,940 acres), Piute/Eldorado (338,767 acres), and Virgin River (7,493 acres). Alternative 4 would reduce the size of the following existing ACECs: Big Dune (428 acres), Gold Butte Part A (183,440 acres), Gold Butte Part B (116,733 acres), Rainbow Gardens (35,355 acres), and River Mountains (6,697 acres).

The following management prescriptions may apply to the individual ACECs under consideration, if formally designated: Avoid or exclude linear ROWs; avoid or exclude site-type ROWs; close to material site ROWs or only allow near Federal-aid highways; close to or place use constraints on fluid leasable mineral development; close to solid leasable mineral development; pursue withdrawal of locatable mineral development; close to saleable mineral development; close to livestock grazing; pursue reverting area within ACEC from a herd management area into a herd area; close to camping; exclude speed-based recreation events; exclude non-speed based recreation events; exclude commercial recreation activities; closed or limited to designated routes for motorized travel; place seasonal restrictions of ground disturbing actions; cap the amount of habitat disturbance allowed from Federal actions.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Marci Todd,
Associate State Director, Nevada.

[FR Doc. 2014-24135 Filed 10-9-14; 8:45 am]

BILLING CODE 4310-HC-P